GENERAL SERVICES ADMINISTRATION

[Notice-MA-2022-06; Docket No. 2022-0002; Sequence No. 12]

Maximum Per Diem Reimbursement Rates for the Continental United States (CONUS)

AGENCY: Office of Government-wide Policy (OGP), General Services Administration (GSA).

ACTION: Notice of GSA Per Diem Bulletin FTR 23-01, Fiscal Year (FY) 2023 CONUS per diem reimbursement rates.

SUMMARY: The GSA FY 2023 per diem reimbursement rates review has resulted in lodging and meal allowance changes for certain locations within CONUS to provide for reimbursement of Federal employees' subsistence expenses while on official travel.

DATES: Applicability Date: This notice applies to travel performed on or after October 1, 2022 through September 30, 2023.

FOR FURTHER INFORMATION CONTACT: For clarification of content, contact Sarah Selenich, Office of Government-wide Policy, Office of Asset and Transportation Management, at 202-969-7798 or by email at travelpolicy@gsa.gov. Please cite Notice of GSA Per Diem Bulletin FTR 23-01.

SUPPLEMENTARY INFORMATION:

Background

The CONUS per diem reimbursement rates prescribed in Bulletin 23-01 may be found at https://www.gsa.gov/perdiem. GSA bases the maximum lodging allowance rates on average daily rate, a widely accepted lodging industry measure, less five percent. If a maximum lodging allowance rate and/or a meals and incidental expenses (M&IE) per diem reimbursement rate is insufficient to meet necessary expenses in any given CONUS location, Federal executive agencies can request that GSA review that location. Please review questions six and seven of GSA's per diem Frequently Asked Questions page at https://www.gsa.gov/perdiem for more information on the special review process. In addition, the Federal Travel Regulation (FTR) allows for actual expense reimbursement as provided in §§ 301-11.300 through 301-11.306.

For FY 2023, no new non-standard area locations were added. Maximum lodging allowance rates in some existing per diem localities will increase and the standard CONUS lodging rate will increase from $96 to $98. The M&IE per diem tiers for FY 2023 are unchanged at $59-$79, with the standard M&IE rate unchanged at $59.

Other than the changes posted on the GSA website, notices published periodically in the Federal Register now constitute the only notification of revisions in CONUS per diem reimbursement rates to agencies.

Krystal J. Brumfield,
Associate Administrator, Office of Government-wide Policy.

[FR Doc. 2022-17785 Filed 8-17-22; 8:45 am]

BILLING CODE 6820-14-P